DEPARTMENT OF HEALTH AND HUMAN SERVICES

Centers for Disease Control and Prevention

[Docket No. CDC-2018-0041]

Vessel Sanitation Program: Annual Program Status Meeting; Request for Comment

AGENCY: Centers for Disease Control and Prevention (CDC), Department of Health and Human Services (HHS).

ACTION: Notice of public meeting and request for comment.

SUMMARY: The Centers for Disease Control and Prevention (CDC) within the Department of Health and Human Services (HHS) announces the 2018 annual Vessel Sanitation Program (VSP) public meeting. The annual meeting serves as a forum for HHS/CDC to update interested persons on work completed in 2017 and plans for future activities. HHS/CDC is also opening a public docket so that additional comments and materials may be submitted. The official record of this meeting will remain open through July 26, 2018 so that additional materials or comments may be submitted and made part of the record.

DATES: Written comments must be received on or before July 26, 2018.

The meeting will be held on June 20, 2018, from 9:00 a.m. to 4:30 p.m. in the Ballroom at the DoubleTree Grand Hotel Biscayne Bay, 1717 North Bayshore Drive, Miami, FL 33132. Information regarding logistics is available on the VSP website (www.cdc.gov/nceh/vsp).

Deadline for Requests for Special Accommodations: Persons wishing to participate in the public meeting who need special accommodations should contact CDR Aimee Treffiletti (vsp@cdc.gov or 954-356-6650 or 770-488-3141) by Monday, May 20, 2018.

ADDRESSES: You may submit comments, identified by Docket No. CDC-2018-0041 by any of the following methods:

• Federal eRulemaking Portal: www.regulations.gov. Follow the instructions for submitting comments.

• Mail: Vessel Sanitation Program, Centers for Disease Control and Prevention, 4770 Buford Highway NE, MS F-58, Atlanta, Georgia 30341.

Instructions: All submissions received must include the agency name and Docket Number. All relevant comments received will be posted without change to www.regulations.gov, including any personal information provided. For access to the docket to read background documents or comments received, go to www.regulations.gov.

FOR FURTHER INFORMATION CONTACT: CDR Aimee Treffiletti, Vessel Sanitation Program, Centers for Disease Control and Prevention, 4770 Buford Highway NE, MS F-58, Atlanta, Georgia 30341, email: vsp@cdc.gov, phone: 954-356-6650 or 770-488-3141.

SUPPLEMENTARY INFORMATION: The purpose of the meeting is to inform the public of VSP's activities in assisting the cruise industry to prevent the introduction and spread of gastrointestinal (GI) illness to U.S. ports from ships under VSP's jurisdiction (ships with 13 or more passengers and an itinerary that includes foreign and U.S. ports).

The meeting will include a review of HHS/CDC's public health support activities from 2017, provide perspective on VSP's approach to vessel sanitation, and offer industry the opportunity to provide input regarding industry efforts to exceed VSP requirements. Presentations will clarify the roles and responsibilities of VSP, cruise line public health management, and shipyards constructing cruise ships. Presentations will also include initiatives for improved epidemiologic study of disease outbreaks and strategic approaches to public health risk reduction for 2019 and the future.

Matters to be discussed:

• VSP year in review: operational and construction inspections, budget, and vessel sanitation training

• GI illness data and epidemiology projects: VSP review and progress report

• VSP 2018 Operations Manual and Construction Guidelines: implementation of the new guidance

• Shipyard construction: how to strengthen public health through engineering controls

Meeting Accessibility: The meeting is open to the public, but space is limited to approximately 70 people. Advanced registration is encouraged. Information regarding logistics is available on the VSP website (www.cdc.gov/nceh/vsp). Attendees at the annual meeting normally include cruise ship industry officials, private sanitation consultants, and other interested parties.

Dated: April 19, 2018.
Sandra Cashman,
Executive Secretary, Centers for Disease Control and Prevention.

[FR Doc. 2018-08869 Filed 4-26-18; 8:45 am]

BILLING CODE 4163-18-P